DEPARTMENT OF TRANSPORTATION

Research and Special Programs Administration

Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before April 16, 2003.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with part 107 of the Federal hazardous materials transportation law (49 U.S.C. 5117(b); 49 CFR 1.53(b)).

Issued in Washington, DC, on March 21, 2003.
R. Ryan Posten,
Exemptions Program Officer, Office of Hazardous Materials Exemptions and Approvals.

Application No. | Docket No. | Applicant | Modification of exemption
4884-M |  | Matheson Tri-Gas, Inc., East Rutherford, NJ. (See Footnote 1.) | 4884
10704-M |  | Terumo Cardiovascular Systems, Tustin, CA. (See Footnote 2.) | 10704
12068-M | RSPA-98-3850 | Sea Launch Company, L.L.C., Long Beach, CA. (See Footnote 3.) | 12068
12112-M | RSPA-98-4322 | Kidde Aerospace, Wilson, NC. (See Footnote 4.) | 12112
13048-M | RSPA-02-12808 | U.S. Department of Energy, Richland, WA. (See Footnote 5.) | 13048
13170-M |  | Premier Industries, Fridley, MN. (See Footnote 6.) | 13170
(1) To modify the exemption to authorize alternative packaging under certain segregation scenarios when transported by private carrier.
(2) To modify the exemption to authorize the transportation of an additional Division 2.2 material in DOT Specification 2Q containers.
(3) To modify the exemption to authorize the transportation of an additional Class 3 material contained as part of the launch vehicle with and without payload.
(4) To modify the exemption to authorize the use of a non-DOT specification steel cylinder used as a component in aircraft of foreign manufacture for the transportation of division 2.2 materials.
(5) To modify the exemption to authorize an alternative disposal site for the one-time, one-way transportation of a Division 4.3 material in a non-DOT specification containment system for disposal.
(6) To reissue the exemption originally issued on an emergency basis for the transportation of a Division 2.2 material in a non-DOT specification pressure vessel assembly.

[FR Doc. 03-7709 Filed 3-31-03; 8:45 am]

BILLING CODE 4910-60-M